DEPARTMENT OF THE INTERIOR

Bureau of Land Management

[LLCAD0500, L51010000.LVRWB10BXXX.FX0000]

Notice of Intent To Prepare an Environmental Impact Statement for the Proposed Rising Tree Wind Farm, Kern County, CA and Possible Land Use Plan Amendment.

AGENCY: Bureau of Land Management, Interior.

ACTION: Notice of Intent.

SUMMARY: In compliance with the National Environmental Policy Act of 1969 (NEPA), as amended, the Federal Land Policy and Management Act of 1976, as amended, and the California Environmental Quality Act, the Bureau of Land Management (BLM) Ridgecrest Field Office, Ridgecrest, California, cooperating with Kern County, intends to prepare an Environmental Impact Statement (EIS)/Environmental Impact Report (EIR), which may include an amendment to the California Desert Conservation Area (CDCA) Plan (1980 as amended) and by this notice is announcing the beginning of the scoping process to solicit public comments and identify issues.

DATES: This notice initiates the public scoping process for the EIS/EIR and possible plan amendment (PA). Comments on issues may be submitted in writing until March 2, 2011. The date(s) and location(s) of any scoping meetings will be announced at least 15 days in advance through local media, newspapers, and the BLM Web site at: http://www.blm.gov/ca/st/en/fo/cdd.html. In order to be included in the Draft EIS/EIR, all comments must be received prior to the close of the scoping period or 15 days after the last public meeting, whichever is later. The BLM will provide additional opportunities for public participation upon publication of the Draft EIS/EIR.

ADDRESSES: You may submit comments on issues and alternatives related to the Rising Tree Wind Farm Draft EIS/EIR and possible CDCA PA by any of the following methods:

• Web site: http://www.blm.gov/ca/st/en/fo/cdd.html.

• E-mail: risingtreewind@blm.gov.

• Fax: (951) 697-5299.

• Mail: Attn: Jeffery Childers, Project Manager, BLM California Desert District Office, 22835 Calle San Juan de Los Lagos, Moreno Valley, California 92553-9046.

Documents pertinent to this proposal may be examined at the California Desert District Office.

FOR FURTHER INFORMATION CONTACT: For further information and/or to have your name added to our mailing list, contact Jeffery Childers; telephone (951) 697-5308; address BLM California Desert District Office, 22835 Calle San Juan de Los Lagos, Moreno Valley, California 92553-9046; e-mail jchilders@blm.gov.

SUPPLEMENTARY INFORMATION: The applicant, Horizon Wind Energy LLC, a wholly-owned subsidiary of EDP Renewables, Inc., has requested a right-of-way (ROW) authorization to construct, operate, maintain and decommission the 234-megawatt Rising Tree Wind Farm. The proposed project is approximately three miles west of the town of Mojave and south of Highway 58 on private lands under the jurisdiction of Kern County and public lands administered by the BLM. The proposed project would include wind turbines, access roads, and energy collection lines on 2,745 acres, of which 527 acres are on public land. Pursuant to the CDCA Plan, sites associated with power generation or transmission not identified in the CDCA Plan will be considered through the plan amendment process.

The purpose of the public scoping process is to determine relevant issues that will influence the scope of the environmental analysis, including alternatives, and guide the process for developing the Draft EIS/EIR. At present, the BLM has identified the following preliminary issues: Air quality and greenhouse gas emissions; biological resources, including special status species; cultural resources; geology and soils; hazards and hazardous materials; hydrology and water quality; land use, noise; recreation; traffic; visual resources; lands with wilderness characteristics; cumulative effects and areas of high potential for renewable energy development.

Authorization of this proposal will require amendment of the CDCA Plan. By this notice, the BLM is complying with requirements in 43 CFR 1610.2(c) to notify the public of potential amendments to land use plans.

The BLM will utilize and coordinate the NEPA commenting process to provide for public involvement required by Section 106 of the National Historic Preservation Act (16 U.S.C. 470f) as described in 36 CFR 800.2(d)(3). Native American tribal consultations will be conducted in accordance with policy, and tribal concerns including impacts on Indian trust assets will be given due consideration. Federal, State, and local agencies, along with tribes and other stakeholders that may be interested in or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Karla Norris,
Associate Deputy State Director, California.

[FR Doc. 2011-2054 Filed 1-28-11; 8:45 am]

BILLING CODE 4310-40-P